DEPARTMENT OF HEALTH AND HUMAN SERVICES

National Institutes of Health

National Cancer Institute; Amended Notice of Meeting

Notice is hereby given of a change in the meeting of the President's Cancer Panel, May 24, 2007, 12:30 p.m. to May 24, 2007, 2:30 p.m. National Institutes of Health, 6116 Executive Boulevard, Rockville, MD 20852 which was published in the Federal Register on May 4, 2007, 72 FR 25322.

This meeting has been rescheduled to occur on June 14, 2007 from 9 a.m. to 10 a.m. The meeting is closed to the public.

Dated: May 25, 2007.
Jennifer Spaeth,
Director, Office of Federal Advisory Committee Policy.

[FR Doc. 07-2756 Filed 6-1-07; 8:45 am]

BILLING CODE 4140-01-M